DEPARTMENT OF ENERGY

Federal Energy Regulatory Commission

[Docket No. RP00-492-001]

Mid Louisiana Gas Company; Notice of Compliance Filing

September 25, 2000.

Take notice that on September 20, 2000, Mid Louisiana Gas Company (Mid Louisiana) tendered for filing as part of its FERC Gas Tariff, Third Revised Volume No. 1, the following tariff sheets, with an effective date of March 27, 2000.

Sub Fifth Revised Sheet No. 97

Sub Second Revised Sheet No. 97A

Sub Third Revised Sheet No. 98

Mid Louisiana states that the revised tariff sheets are being made to comply with the conditions contained in the Commission's September 15, 2000 Letter Order in this docket that accepted its filing to eliminate from its tariff provisions that are inconsistent with the Commission's decision in Order Nos. 637 and 637-A to remove the rate ceiling for short term capacity release transactions.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-24992 Filed 9-28-00; 8:45 am]

BILLING CODE 6717-01-M